DEPARTMENT OF THE INTERIOR

Fish and Wildlife Service

Proposed Florida Scrub-Jay Safe Harbor Agreement, Volusia County, FL

AGENCY: Fish and Wildlife Service, Interior.

ACTION: Notice: receipt of application for an enhancement of survival permit; safe harbor agreement.

SUMMARY: We, the Fish and Wildlife Service (Service), announce the availability of an Enhancement of Survival Permit (ESP) application and Safe Harbor Agreement (SHA). Daytona Beach Community College (Applicant) requests an ESP permit under section 10(a)(1)(A) of the Endangered Species Act of 1973, as amended (Act). The permit application includes a proposed Safe Harbor Agreement (Agreement) for the threatened Florida scrub-jay (Aphelocoma coerulescens) (scrub-jay) for a period of 20 years.

We (the Service) announce the opening of a 30-day comment period and request comments from the public on the Applicant's enhancement of survival permit application and the accompanying proposed Agreement. All comments we receive, including names and addresses, will become part of the administrative record and may be released to the public. For further information and instructions on reviewing and commenting on this application, see the ADDRESSES section, below.

DATES: We must receive any written comments on the ESP application and SHA on or before November 8, 2007.

ADDRESSES: If you wish to review the ESP application and SHA, you may write the Field Supervisor at our Jacksonville Field Office, 6620 Southpoint Drive South, Suite 310, Jacksonville, FL 32216, or make an appointment to visit during normal business hours. If you wish to comment, you may mail or hand deliver comments to the Jacksonville Field Office, or you may e-mail comments to michael_jennings@fws.gov. For more information on reviewing documents and public comments and submitting comments, see SUPPLEMENTARY INFORMATION.

FOR FURTHER INFORMATION CONTACT: Michael Jennings, Fish and Wildlife Biologist, Jacksonville Field Office (see ADDRESSES), telephone: 904/232-2580, ext. 113.

SUPPLEMENTARY INFORMATION: Public Review and Comment: Please reference permit number TE146919-0 in all requests or comments. Please include your name and return address in your e-mail message. If you do not receive a confirmation from us that we have received your e-mail message, contact us directly at the telephone number listed under FOR FURTHER INFORMATION CONTACT. Before including your address, phone number, e-mail address, or other personal identifying information in your comment, you should be aware that your entire comment—including your personal identifying information—may be made publicly available at any time. While you can ask us in your comment to withhold your personal identifying information from public review, we cannot guarantee that we will be able to do so. We will make all submissions from organizations or businesses, and from individuals identifying themselves as representatives or officials of organizations or businesses, available for public inspection in their entirety. We will not consider anonymous comments.

Background: Under a safe harbor agreement, a participating property owner voluntarily undertakes management activities on their property to enhance, restore, or maintain habitat benefiting species listed under the Act. Safe harbor agreements encourage private and other non-Federal property owners to implement conservation measures for listed species by assuring them they will not be subjected to increased property use restrictions if their efforts attract listed species to their property or increase the numbers of listed species already on their property. Application requirements and issuance criteria for enhancement of survival permits through safe harbor agreements are found in 50 CFR 17.22 and 17.32.

We have worked with the Applicant to design conservation measures intended to benefit the scrub-jay on about 76 acres (enrolled property) in Volusia County. Under the SHA, the Applicant will undertake the following actions on the enrolled property: (1) Remove sand pine canopy; (2) create open sandy areas through mechanical means (including chopping and/or root-raking) or by using herbicides; and (3) manage habitat using prescribed fire and/or mechanical means.

Applicant's Proposal: The Applicant's property is currently occupied by three families of scrub-jays. Conservation measures proposed by the Applicant will enhance existing habitat conditions and contribute to the continued survival of the three scrub-jay families currently residing on their property. In addition, the Applicant intends to manage unoccupied habitat in anticipation that it will become occupied by scrub-jays. The Applicant anticipates that the proposed conservation measures will result in an additional three families of scrub-jays occupying their property. Without the proposed SHA, it would not be possible for the Applicant to undertake the proposed conservation measures and receive regulatory assurances from the Service through the Act.

Consistent with the Service's Safe Harbor policy and implementing regulations, we propose to issue a permit to the Applicant authorizing the incidental take of scrub-jays through lawful activities on the enrolled land, as long as baseline conditions are maintained and terms of the Agreement are implemented. Future development of educational facilities on the enrolled property is likely to result in a return to the baseline condition.

This notice also advises the public that the Service has made a preliminary determination that issuance of the ESP will not result in significant impacts to the human environment. Therefore, the ESP and SHA is a “low-effect” project and qualifies for a categorical exclusion under the National Environmental Policy Act of 1969 (NEPA), as amended (NEPA), as provided by the Department of the Interior Manual (516 DM 2 Appendix 1 and 516 DM 6 Appendix 1). This preliminary information may be revised based on our review of public comments that we receive in response to this notice.

We will evaluate the ESP and SHA and comments submitted thereon to determine whether the requirements of Section 10(a) of the Act have been met. We will also evaluate whether issuance of the ESP complies with section 7 of the Act by conducting an intra-Service section 7 consultation. We will use the results of this consultation, in combination with the above findings, in the final analysis to determine whether or not to issue the ESP and execute the SHA.

Authority: We provide this notice under Section 10 of the Act and NEPA regulations (40 CFR 1506.6).

Dated: October 2, 2007.
David L. Hankla,
Field Supervisor, Jacksonville Field Office.

[FR Doc. E7-19797 Filed 10-5-07; 8:45 am]

BILLING CODE 4310-55-P